DEPARTMENT OF TRANSPORTATION

Pipeline And Hazardous Materials Safety Administration

Office of Hazardous Materials Safety; Notice of Applications for Modification of Special Permit

AGENCY: Pipeline and Hazardous Materials Safety Administration (PHMSA), DOT.

ACTION: List of Applications for Modification of Special Permits

SUMMARY: In accordance with the procedures governing the application for, and the processing of, special permits from the Department of Transportation's Hazardous Material Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before July 7, 2014.

Address Comments To: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washing-ton DC or at http://regulations.gov.

This notice of receipt of applications for modification of special permit is published in accordance with Part 107 of the Federal hazardous materials transportation law (49 U.S.C. 5117(b); 49 CFR 1.53(b)).

Issued in Washington, DC, on June 12, 2014.
Donald Burger,
Chief, General Approvals and Permits.

Modification Special Permits

Application No. | Docket No. | Applicant | Regulation(s) affected | Nature of special permits thereof
11834-M |  | Ashland, Inc. Dublin, OH | 49 CFR 173.173, 173.202 173.203, and 172.301(c) | To modify the special permit to authorize two Class 8 materials.
11903-M |  | Comptank Corporation Bothwell, ON | 49 CFR 107.503(b), 172.102(c)(3) SP B15 and B23, 173.241, 173.242, 173.243, 178.345-1, -2, -3, -4, -7, -14 and -15, 180.405,180.413(d) | To modify the special permit to authorize a 54-inch diameter, 312-inch length, single rib vessel with a design pressure of 35 psig.
11911-M |  | Transfer Flow, Inc. Chico, CA | 49 CFR 177.834(h), and 178.700(c)(1) | To modify the special permit to authorize and design flexibility in lieu of modifying the special permit for each design change.
13027-M |  | Hernco Fabrication Services Midland, TX | 49 CFR 173.202, 173.203, 173.241, 173.242, and 173.243 | To modify the special permit to authorize a new vent.
14919-M |  | TK Holdings Inc./Takata Armada, MI | 49 CFR 173.301(a), 173.302a, and 178.65(f)(2) | To modify the special permit to remove the specifications for cylinder sizes and water capacities.
15428-M |  | National Aeronautics and Space Administration (NASA) Washington, DC | 49 CFR 172.300, 172.400 and Part 173 | To modify the special permit to authorize Divison 1.3C, 1.4C and 1.4S materials in non-DOT specification packagings.
15448-M |  | U.S. Department of Defense Scott AFB, IL | 49 CFR 172.320, 173.51, 173.56, 173.57 173.58 | To modify the special permit to authorize packagings that have not been specifically and approved.

[FR Doc. 2014-14182 Filed 6-19-14; 8:45 am]

BILLING CODE 4909-60-M